POSTAL REGULATORY COMMISSION

Sunshine Act Meetings

NAME OF AGENCY: Postal Regulatory Commission.

TIME AND DATE: Convening on Tuesday, January 9, 2007, at 9:30 a.m., and continuing daily thereafter as needed, at 9:30 a.m. or after, until completed.

PLACE: Commission conference room, 901 New York Avenue, NW., Suite 200, Washington, DC 20268-0001.

STATUS: Closed.

MATTERS TO BE CONSIDERED: Recommendations in Docket No. R2006-1.

CONTACT PERSON FOR MORE INFORMATION: Stephen L. Sharfman, General Counsel, Postal Regulatory Commission, 202-789-6820.

Dated: January 5, 2007.
Steven W. Williams,
Secretary.

[FR Doc. 07-40 Filed 1-5-07; 12:35 pm]

BILLING CODE 7710-FW-M